DEPARTMENT OF TRANSPORTATION

Maritime Administration

U.S. Merchant Marine Academy Board of Visitors; Public Meeting

AGENCY: Maritime Administration, DOT.

ACTION: Notice of public meeting.

SUMMARY: The U.S. Department of Transportation, Maritime Administration announces a meeting of the U.S. Merchant Marine Academy (USMMA) Board of Visitors (Board). During the meeting, the USMMA leadership will provide an update on programs and priorities, including governance, sexual assault and sexual harassment, academics, admissions, culture, and facilities and infrastructure.

DATES: The USMMA BOV meeting will take place on July 26, 2024, from 9:00 a.m. to 11:30 a.m. EST. Request to attend the meeting must be received by July 19, 2024, and permission will be based on space available. Requests will be taken as they are received until available spaces are full. Written statements to be considered during the meeting must be received via email to ExternalAffairs@usmma.edu no later than July 23, 2024. Requests for accommodations for a disability must be received via email to ExternalAffairs@usmma.edu no later than July 23, 2024.

ADDRESSES: The meeting will be held in person at the United States Merchant Marine Academy located at 300 Steamboat Road, Kings Point, NY 11024, in the Crabtree Room of the Schuyler Otis Bland Memorial Library.

The USMMA Board of Visitors' web page can be found at https://www.usmma.edu/about/leadership/board-visitors. General information about the Board is available at https://www.usmma.edu/about/leadership/board-visitors.

FOR FURTHER INFORMATION CONTACT: The Board's Designated Federal Officer and Point of Contact, Michael O'Hagan, 516-726-6048 or ExternalAffairs@usmma.edu.

SUPPLEMENTARY INFORMATION:

Background

The Board is a Federal Advisory Committee originally established as a Congressional Board by section 51312 of title 46, United States Code “to provide independent advice and recommendations on matters relating to the United States Merchant Marine Academy.” The Board was originally chartered under the Federal Advisory Committee Act (FACA) on October 24, 2017.

Agenda

The meeting agenda for the July meeting is as follows:

1. Welcome remarks and Board maintenance items.

2. Update on the USMMA priority programs and initiatives (including educational programs, athletic programs, institutional culture, sexual assault and sexual harassment prevention and response, program status, admissions trends, Academy facilities and infrastructure progress, internal processes and governance status, state of the regiment of midshipmen and campus culture)

3. Update on the state of the Regiment of Midshipmen and Campus Culture; and

4. Public comment period (not to exceed 10 minutes).

Public Participation

This meeting is open to the public and will be held at the Academy. The U.S. Department of Transportation is committed to providing equal access to this meeting for all participants. If you need alternative formats or services because of a disability, such as sign language, interpretation, or other ancillary aids, please contact the person listed in the FOR FURTHER INFORMATION CONTACT section.

Any member of the public is permitted to file a written statement with the Board. Written statements should be sent to the Designated Federal Officer listed in the FOR FURTHER INFORMATION CONTACT section no later than July 19, 2024.

Only written statements will be considered by the Board; no member of the public will be allowed to present questions or speak during the meeting unless requested to do so by a member of the Board.

(Authority: 46 U.S.C. 51312; 5 U.S.C. 552b; 5 U.S.C. Ch.10; 41 CFR parts 102-3.140 through 102-3.165)

By Order of the Maritime Administrator.
T. Mitchell Hudson, Jr.,
Secretary, Maritime Administration.

[FR Doc. 2024-15575 Filed 7-15-24; 8:45 am]

BILLING CODE 4910-81-P